FEDERAL COMMUNICATIONS COMMISSION

47 CFR Part 73

[MB Docket No. 11-207; RM-11517, RM-11518; DA 11-2058]

Radio Broadcasting Services; Ehrenberg, First Mesa, Kachina Village, Wickenburg, and Williams, AZ; and Application of Univision Radio License Corporation, KHOV-FM, Wickenburg, AZ

AGENCY: Federal Communications Commission.

ACTION: Proposed rule.

SUMMARY: This document requests comments on two mutually exclusive proposals that were previously being considered in MB Docket No. 08-85. That proceeding was terminated without considering these proposals. The first proposal, RM-11517, filed by Rocket Radio, Inc., proposes the allotment of FM Channel 287C2 at Williams, Arizona, as the community's second local service; the substitution of Channel 228C2 for vacant Channel 286C2 at Ehrenberg, Arizona; and the substitution of Channel 281C for vacant Channel 247C at First Mesa, Arizona. Additionally, to facilitate the Williams allotment, we issue an Order to Show Cause to Univision Radio License Corporation as to why its license for Station KHOV-FM, Wickenburg, Arizona, should not be changed from Channel 287C2 to Channel 286C2; and to Grenax Broadcasting II, LLC as to why its license for Station KBTK(FM), Kachina Village, Arizona, should not be modified from Channel 286C2 to Channel 246C2. See SUPPLEMENTARY INFORMATION.

DATES: Comments must be filed on or before February 20, 2012, and reply comments on or before March 6, 2012.

ADDRESSES: Secretary, Federal Communications Commission, 445 Twelfth Street SW., Washington, DC 20554. In addition to filing comments with the FCC, interested parties should serve the petitioner as follows: Erwin G. Krasnow, Esq., Garvey Schubert Barer, 1000 Potomac Street NW., Fifth Floor, Flour Mill Building, Washington, DC 20007-3501 (Counsel to Rocket Radio, Inc.); and Scott R. Flick, Esq., Pillsbury Winthrop Shaw Pittman LLP, 2300 N Street NW., Washington, DC 20037-1128 (Counsel to Univision Radio License Corporation).

FOR FURTHER INFORMATION CONTACT: Rolanda F. Smith or Andrew J. Rhodes, Media Bureau, (202) 418-2054.

SUPPLEMENTARY INFORMATION: This is a synopsis of the Commission's Notice of Proposed Rule Making, MB Docket No.11-207, adopted December 21, 2011, and released December 23, 2011. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1 (800) 378-3160 or via email www.BCPIWEB.com.

The second proposal, RM-11518, involves a petition for rule making and hybrid application, filed by Univision Radio License Corporation, licensee of Station KHOV-FM, Wickenburg, Arizona. The application requests the upgrade of Station KHOV-FM, Wickenburg, from Channel 287C2 to Channel 286C0. See File No. BPH-20080915AFP. To accommodate this proposal, Univision Radio License Corporation filed a petition for rule making proposing the same channel substitutions for the vacant allotments at Ehrenberg and First Mesa as proposed in the first proposal. Additionally, we issue an Order to Show Cause to Grenax Broadcasting II, LLC for the same involuntary channel to Station KBTX(FM), Kachina Village, Arizona, to facilitate the Wickenburg proposal.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Arizona, is amended at Ehrenberg by removing Channel 286C2 and adding Channel 228C2 in its place; at First Mesa by removing Channel 247C and adding Channel 281C and by adding Williams, Channel 287C2.

[FR Doc. 2012-709 Filed 1-13-12; 8:45 am]

BILLING CODE 6712-01-P